DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from October 5, to October 9, 2009.

For further information, please contact Edson Beall via: United States Postal Service mail, at the National Register of Historic Places, 2280, National Park Service, 1849 C St. NW., Washington, DC 20240; in person (by appointment), 1201 Eye St. NW., 8th floor, Washington DC 20005; by fax, 202-371-2229; by phone, 202-354-2255; or by e-mail, Edson_Beall@nps.gov.

Dated: December 16, 2009.
J. Paul Loether,
Chief, National Register of Historic Places/National Historic Landmarks Program.

KEY: State, County, Property Name, Address/Boundary, City, Vicinity, Reference Number, Action, Date, Multiple Name

ARKANSAS

Faulkner County

Hardy Cemetery, 722 AR 225 E., Centerville, 09000798, LISTED, 10/08/09

Woodruff County

Morris, Dr. John William, Clinic, 118 W. Main St., McCrory, 09000801, LISTED, 10/05/09

CALIFORNIA

El Dorado County

Wakamatsu Tea and Silk Colony Farm, 941 Cold Springs Rd., Gold Hill vicinity, 09000397, LISTED, 10/09/09

Nevada County

Commercial Row—Brickelltown Historic District, Roughly the N. side of Donner Pass Rd. from Bridge St. westwards approx. 1,700 ft., Truckee, 09000803, LISTED, 10/08/09

San Bernardino County

Shady Point, 778 Shelter Cove Dr., Lake Arrowhead, 09000804, LISTED, 10/05/09

San Francisco County

Roos House, 3500 Jackson St., San Francisco, 09000805, LISTED, 10/08/09

Tobin House, 1969 California St., San Francisco, 09000806, LISTED, 10/05/09

Tuolumne County

Sonora Youth Center, 732 S. Barretta St., Sonora, 09000807, LISTED, 10/08/09

FLORIDA

Orange County

Warlow, Thomas Picton, Sr., House, 701 Driver Ave., Winter Park vicinity, 09000808, LISTED, 10/08/09

KANSAS

Leavenworth County

Helmers Manufacturing Company Building, 300 Santa Fe St./2500 2nd St., Leavenworth, 09000809, LISTED, 10/08/09

Republic County

Cuba Blacksmith Shop, 1/2 block W. of Baird St. on the Lynn St., Cuba, 09000810, LISTED, 10/08/09

Sedgwick County

Wichita High School, 324 N. Emporia, Wichita, 09000811, LISTED, 10/08/09 (Public Schools of Kansas MPS)

MISSOURI

Greene County

Pythian Home of Missouri, 1451 E. Pythian St., Springfield, 09000812, LISTED, 10/07/09

Jefferson County

Central School Campus, 221 S. 3rd. St., De Soto, 09000813, LISTED, 10/08/09

Madison County

Fredericktown United States Post Office, 155 S. Main St., Fredericktown, 09000814, LISTED, 10/08/09

MONTANA

Petroleum County

Winnett Block, 301 E. Main St., Winnett, 09000815, LISTED, 10/08/09

NEW HAMPSHIRE

Rockingham County

Portsmouth Harbor Light, .3 mi. E. of Rt. 1B jct. with Wentworth Rd., Ft. Constitution SE corner, New Castle, 09000816, LISTED, 10/08/09 (Light Stations of the United States MPS)

NEW MEXICO

Cibola County

Acoma Curio Shop, 1090 NM 124, San Fidel, 09000817, LISTED, 10/07/09 (Route 66 through New Mexico MPS)

SOUTH CAROLINA

Richland County

Benson, Florence C., Elementary School, 226 Bull St., Columbia, 09000819, LISTED, 10/07/09 (Equalization Schools in South Carolina, 1951-1960 MPS)

WISCONSIN

Kenosha County

Wisconsin shipwreck (iron steamer), Address Restricted, Kenosha vicinity, 09000820, LISTED, 10/07/09 (Great Lakes Shipwreck Sites of Wisconsin MPS)

Oneida County

Sutliff, Solon and Mathilda, House, 306 Dahl St., Rhinelander, 09000821, LISTED, 10/07/09

[FR Doc. E9-30734 Filed 12-28-09; 8:45 am]

BILLING CODE P